DEPARTMENT OF ENERGY

Federal Energy Regulatory Commission

18 CFR Parts 352, 357, and 385

[Docket No. RM99-10-000; Order No. 620]

Revisions to and Electronic Filing of the FERC Form No. 6 and Related Uniform System of Accounts

Issued February 15, 2001.

AGENCY: Federal Energy Regulatory Commission, DOE.

ACTION: Final rule; notice of confirmation of effective date.

SUMMARY: This document informs the industry and the public that Order No. 620, revisions to and electronic filing of the FERC Form No. 6 and related uniform system of accounts, a Final Rule amending Parts 352, 357, and 385 of the Federal Energy Regulatory Commission's regulations, and revising the associated reporting Form No. 6 schedules and instructions (65 FR 81334 (Dec. 26, 2000)) has been reviewed, and the order's January 25, 2001 effective date will not be postponed.

DATES: The effective date of the final rule amending 18 CFR parts 352, 357, and 385 published at 65 FR 81335 remains January 25, 2001.

FOR FURTHER INFORMATION CONTACT: Mary C. Lauermann, Office of the Executive Director, Federal Energy Regulatory Commission, 888 First Street NE., Washington, DC 20426, (202) 208-0087.

SUPPLEMENTARY INFORMATION: This notice informs the industry and the public that the Federal Energy Regulatory Commission (Commission) has reviewed Order No. 620 and determined not to delay the order's January 25, 2001 effective date.

Order No. 620, a Final Rule amending Parts 352, 357, and 385 of the Commission's regulations, and revising the associated reporting Form No. 6 schedules and instructions, was published in the Federal Register (65 FR 81335 (Dec. 26, 2000)) with a January 25, 2001 effective date.

The January 20, 2001 memorandum directed the heads of executive departments and federal government agencies to postpone the effective date of regulations published in the Federal Register, but which had not yet taken effect, for 60 days to ensure that his appointees or their designates had an opportunity to review any new or pending regulations (66 FR 7702, January 24, 2001).

The Commission has reviewed Order No. 620, and determined not to delay its effective date. Order No. 620, therefore, will continue to be effective on January 25, 2001.

David P. Boergers,
Secretary.

[FR Doc. 01-4352 Filed 2-23-01; 8:45 am]

BILLING CODE 6717-01-M